ENVIRONMENTAL PROTECTION AGENCY

[EPA-HQ-OMS-2023-0605; FRL—12011-01-OMS]

Agency Information Collection Activities; Submission to the Office of Management and Budget for Review and Approval; Comment Request; Generic Clearance for the Collection of Qualitative Feedback on Agency Service Delivery (Renewal)

AGENCY: Environmental Protection Agency (EPA).

ACTION: Notice.

SUMMARY: The Environmental Protection Agency (EPA) has submitted an information collection request (ICR), Generic Clearance for the Collection of Qualitative Feedback on Agency Service Delivery (EPA ICR Number 2434.204, OMB Control Number 2030-0051) to the Office of Management and Budget (OMB) for review and approval in accordance with the Paperwork Reduction Act. This is a proposed extension of the ICR, which is currently approved through May 31, 2024. Public comments were previously requested via the Federal Register on January 26, 2024 during a 60-day comment period. This notice allows for an additional 30 days for public comments.

DATES: Comments may be submitted on or before July 1, 2024.

ADDRESSES: Submit your comments, referencing Docket ID Number: EPA-HQ-OMS-2023-0605, to EPA online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Aaron Jackson, Information Engagement Division (IED), Office of Information Management (OIM), 282T, Environmental Protection Agency, 1200 Pennsylvania Ave. NW, Washington, DC 20460; telephone number: (202) 566-0348; email address: jackson.aaron@epa.gov.

SUPPLEMENTARY INFORMATION: This is a proposed extension of the ICR, which is currently approved through May 31, 2024. An agency may not conduct or sponsor, and a person is not required to respond to a collection of information unless it displays a currently valid OMB control number.

Public comments were previously requested via the Federal Register on January 26, 2024 during a 60-day comment period (89 FR 5228). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The information collection activity provides EPA with an opportunity to efficiently engage its customers and stakeholders by gathering qualitative information about their current or potential future interaction with Agency. Getting such feedback in a timely manner is critical if the Agency is to know how and where it should focus while seeking to improve, or expand upon, its products and services. Following the pathway established by OMB for fast-track generic ICRs, the Agency will submit individual requests for specific information collections on an as-needed basis. Those requests will describe the collection and the public burden created. The Agency will submit a collection request for approval under this generic clearance only if the collections are: voluntary; low burden and low-cost for both the respondents and the federal government; noncontroversial; targeted to respondents who have experience with the program or may have experience with the program in the near future; and abstain from collecting personally identifiable information (PII) to the greatest extent possible. Information gathered will be used internally for general service improvement and program management purposes and released publicly only in an anonymized or aggregated fashion. Information gathered will not be used in statistical analysis intended to yield results that can be generalized to the population of study, nor will it be used to substantially inform influential policy decisions.

Form Numbers: To be provided in individual collection requests.

Respondents/affected entities: Individuals, businesses, organizations, and state, local, and Tribal representatives that are stakeholders in, consumers of, or partners in providing, EPA or EPA-supported current or potential services and programs.

Respondent's obligation to respond: Voluntary.

Estimated number of respondents: 180,000 (total).

Frequency of response: Varies.

Total estimated burden: 45,000 hours (per year). Burden is defined at 5 CFR 1320.03(b).

Total estimated cost: There are no expected capital or operation & maintenance costs.

Changes in the Estimates: There are no changes or adjustments reported in the burden or capital/O&M cost estimates.

Courtney Kerwin,
Director, Information Engagement Division.

[FR Doc. 2024-11805 Filed 5-29-24; 8:45 am]

BILLING CODE 6560-50-P